DEPARTMENT OF AGRICULTURE

Food and Nutrition Service

Agency Information Collection Activities: Healthy Meals Incentives Recognition Awards Application for School Food Authorities

AGENCY: Food and Nutrition Service (FNS), USDA.

ACTION: Notice.

SUMMARY: In accordance with the Paperwork Reduction Act of 1995, this notice invites the general public and other public agencies to comment on this proposed information collection. This is a new collection for the Healthy Meals Incentives Recognition Awards Application. The Recognition Awards will recognize School Food Authorities (SFAs) that have made significant improvements to the nutritional quality of their school meals by exceeding the transitional school meal pattern requirements, engaging students, and implementing innovative practices. SFAs can apply to one or more Recognition Awards included in the Application form.

DATES: Written comments must be received on or before March 10, 2023.

ADDRESSES: Comments may be sent to: Kaylyn Padovani, Food and Nutrition Service, U.S. Department of Agriculture, 4th Floor, Food and Nutrition Service, 1320 Braddock Place, Alexandria, VA 22314; telephone: 703-305-2078. Comments may also be submitted via email to TeamNutrition@fns.usda.gov with “Comments to HMI Recognition Awards Application for SFAs” in the subject line. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Kaylyn Padovani via email to TeamNutrition@fns.usda.gov, or 703-305-2078.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Healthy Meals Incentives Recognition Awards Application for School Food Authorities.

Form Number: Not yet assigned.

OMB Number: Not yet assigned.

Expiration Date: Not yet determined.

Type of Request: New collection.

Abstract: The National School Lunch Program (NSLP) and School Breakfast Program (SBP) are Federally assisted meal programs operating in public and non-profit private schools and residential child care institutions. The Food and Nutrition Service (FNS) of the United States Department of Agriculture (USDA) administers the NSLP and SBP at the Federal level. These programs provide nutritionally balanced, low-cost, or no-cost meals to children each school day. School lunches and breakfasts provided through these programs (i.e., school meals) must meet Federal nutrition requirements, which are based upon the Dietary Guidelines for Americans.

On December 29, 2020, USDA and the United States Department of Health and Human Services (HHS) released the Dietary Guidelines for Americans, 2020-2025 (2020-2025 DGA). During this same time period, the Coronavirus (COVID-19) public health emergency caused major disruptions to the NSLP and SBP and the food supply chain.

In February 2022, USDA FNS published the Child Nutrition Programs: Transitional Standards for Milk, Whole Grains, and Sodium Final Rule (hereafter referred to as “Transitional Standards”). This rule establishes transitional standards to support the continued provision of nutritious school meals as schools respond to and recover from the pandemic and while USDA engages in notice-and-comment rulemaking to update the meal pattern standards to more comprehensively reflect the 2020-2025 DGA.

At the State level, the NSLP and SBP are administered by State agencies, which operate these programs through agreements with School Food Authorities (SFAs). While USDA FNS establishes meal pattern requirements and weekly dietary specifications for school meals, decisions about the specific foods to serve and how the foods are prepared are made by SFAs.

USDA FNS recently announced the Healthy Meals Incentives Initiative Recognition Awards to support improvements in the nutritional quality of school meals through the generation and sharing of innovative ideas and tested practices being implemented at the local level. These efforts will also highlight the remarkable achievements SFAs are making in the offering of nutritious school meals that students enjoy. The recognition awards will spotlight innovative practices, student and community engagement strategies, and strategies schools have used to provide meals that are consistent with the 2020-2025 DGA. USDA FNS will highlight and share these diverse best practices nationwide through training and technical assistance resources and Healthy Meals Summits. SFAs meeting Healthy Meals Incentives Recognition Award criteria will receive nonmonetary recognition and stipends to attend and participate in the Healthy Meals Summits.

FNS is developing the Recognition Awards Application and is seeking OMB approval. From August through October 2022, FNS met with State agencies and key school nutrition stakeholders to discuss potential Recognition Award categories, criteria, and documentation.

The collected feedback has informed the development of the Healthy Meals Incentives Recognition Awards. FNS anticipates providing up to 10 types of recognition awards. SFAs may receive awards in more than one category, but SFAs shall receive each award only once.

The application for the Healthy Meals Incentives Recognition Awards is planned to be available for SFAs to apply between School Year 2023-2024 through School Year 2024-2025 (a two-year period). The application form will be available in both English and Spanish, and in other languages and alternative formats upon request. It will include instructions, the awards' criteria and required documentation, and sections to populate and/or upload the required documentation. The form will be designed to reduce burden for SFA applicants by being accessible online and including fillable sections to enter text. The type of information that will be collected will include SFA information such as address, total number of schools, number of schools participating in the NSLP and SBP, percentage of student eligible for free- and reduced-price meals, school demographic information, such as percentage of students' race and ethnicity, and the SFA point of contact for the application. Also, each award may have up to ten questions that will be easy to respond by just entering a short narrative or uploading documentation and checking the box once it has been completed. This information will be used to verify that the SFA meets the established Recognition Award criteria. The type of documentation to be submitted with the application will vary by award but will consist primarily of documentation that the SFA is already required to maintain as part of the NSLP and SBP, such as school meal production records, menus, Nutrition Facts labels and ingredients statements for foods and beverages, and recipes. As part of the application, the SFA must include a form to be completed by the State agency that has an agreement with the SFA to operate the NSLP and SBP. This form will document that the SFA participates in the NSLP and/or SBP, and does not have any outstanding corrective actions, unresolved findings, or findings related to program discrimination complaints. This form will include the name, title, and contact information of the State agency official that completes the form. The form will include four questions that will be answered by selecting the best answer and a space to provide more details as needed.

SFAs applying for the Healthy Meals Incentives Recognition Awards will receive up to three notifications about the progress of their application, including the confirmation that the application has been submitted and received, assistance for an incomplete application, and final application results. These notifications will be electronic and will inform the SFA of their application status and any required steps to complete the application process.

SFAs participating in the Healthy Meals Incentives Recognition Awards will also be asked to complete up to three feedback forms. These forms are needed to collect information about the customer service provided to SFA during the application process, collect best practices, and collect follow up information related to the delivery of the Recognition Awards and attendance at the Healthy Meals Summit. To maintain the burden to complete these forms as low as possible, they will be completed online, with no more than five questions, formatted so that the SFA can select the best option, and provide more details or comments as needed.

The NSLP and SBP and the Healthy Meals Incentives Recognition Awards are administered in a nondiscriminatory manner in accordance with civil rights laws and regulations.

Affected Public: This collection has two respondent groups. The first respondent group includes School Food Authorities (SFAs) that participate in the National School Lunch Program (NSLP) in the contiguous United States, Hawaii, Alaska, District of Columbia, Puerto Rico, Guam, or the United States Virgin Islands. The second respondent group includes State agencies that administer the NSLP and/or SBP, and have agreements with the SFAs.

Estimated Number of Respondents: The total estimated number of respondents is 2,054, consisting of 2,000 School Food Authorities and 54 State agencies.

Estimated Number of Responses per Respondent: School Food Authorities (SFA) participating in the National School Lunch Program will be invited and encouraged to apply for at least one of the Healthy Meals Incentives Recognition Awards. There will be one application with all the awards. The SFA can use the application to apply for any number of the awards. The SFA can apply for all of the awards but may only receive recognition for each award once. SFAs that apply to the Healthy Meals Incentives Recognition Awards will need to read up to three notifications related to the application process, complete up to three feedback forms, and may need to update their application to correct missing or inaccurate information.

State agencies will need to complete only one State Agency Confirmation Form per applicant SFA.

Estimated Total Annual Responses: The estimated total annual responses are 18,000 responses.

2,000 respondents × 8 responses = 16,000 total annual responses from School Food Authorities

2,000 respondents × 1 response = 2,000 total annual responses from State agencies

Estimated Time per Response: The average estimated time of response by School Food Authorities (SFAs) and State agencies is shown in the table below and described in this section.

The estimated time of response by the SFAs is broken down in four activities: new application, updated application, application notifications, and feedback forms. For SFAs to complete the Healthy Meals Incentives Recognition Awards Application, the estimated time of response varies from 300 to 1,500 minutes depending on how many awards the SFA applies for, with an average estimated time of 15 hours. To update the application, the estimated time to respond by each SFA is between 20 to 90 minutes depending on the number of updates needed to the application information and/or documentation, with an average estimated time of 1 hour. To read each of the notifications regarding the status of the application, the estimated time of response by SFA is between 5 to 35 minutes, with an average estimated time of 0.334 hour. To complete each feedback form, the estimated time of response by SFAs is between 25 to 35 minutes, with an average estimated time of 0.5 hour.

The estimated time of response by State agency to complete and send the State agency confirmation form per SFA is between 20 to 40 minutes, with and average estimated time of 0.5 hour.

Estimated Total Annual Burden on Respondents: The estimated total annual burden on respondents is 2,280,240 minutes (38,004 hours). See the table below for estimated total annual burden for each type of respondent.

Respondent | Estimated number respondent | Responses annually per respondent | Total annual responses (col. bxc) | Estimated average number of hours per response | Estimated total hours (col. dxe)
Reporting Burden
School Food Authorities—HMI Recognition Awards Application | 2,000 | 1.00 | 2,000 | 15 | 30,000.0
School Food Authorities—Updated HMI Recognition Awards Application | 2,000 | 1.00 | 2,000 | 1 | 2,000.0
School Food Authorities—HMI Recognition Awards Application Notifications (Confirmation of Submission, Incomplete Status, Final Status) | 2,000 | 3.00 | 6,000 | 0.334 | 2,004.0
School Food Authorities—HMI Recognition Awards Feedback Forms (Success Stories, Summit Celebration, Customer Service, and Technical Assistance) | 2,000 | 3.00 | 6,000 | 0.5 | 3,000.0
State Agencies of National School Lunch Program | 54 | 37 | 2,000 | 0.5 | 1,000.0
Total Reporting Burden | 2,054 |  | 18,000 |  | 38,004

Tameka Owens,
Assistant Administrator, Food and Nutrition Service.

[FR Doc. 2022-27941 Filed 12-22-22; 8:45 am]

BILLING CODE 3410-30-P